DEPARTMENT OF DEFENSE

48 CFR Part 207

[DFARS Case 2004-D004]

Defense Federal Acquisition Regulation Supplement; Acquisition Plans—Corrosion Prevention and Mitigation

AGENCY: Department of Defense (DoD).

ACTION: Final rule.

SUMMARY: DoD has issued a final rule amending the Defense Federal Acquisition Regulation Supplement (DFARS) to implement Section 1067 of the National Defense Authorization Act for Fiscal Year 2003. Section 1067 requires DoD to prevent and mitigate corrosion during the design, acquisition, and maintenance of military equipment.

EFFECTIVE DATE: September 17, 2004.

FOR FURTHER INFORMATION CONTACT: Ms. Teresa Brooks, Defense Acquisition Regulations Council, OUSD(AT&L)DPAP(DAR), IMD 3C132, 3062 Defense Pentagon, Washington, DC 20301-3062. Telephone (703) 602-0326; facsimile (703) 602-0350. Please cite DFARS Case 2004-D004.

SUPPLEMENTARY INFORMATION:

A. Background

This final rule amends DFARS 207.105 to add corrosion prevention and mitigation to the areas that agencies must address in acquisition plans. The rule implements Section 1067 of the National Defense Authorization Act for Fiscal Year 2003 (Public Law 107-314), which requires DoD to prevent and mitigate corrosion during the design, acquisition, and maintenance of military equipment.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subpart in accordance with 5 U.S.C. 610. Such comments should cite DFARS Case 2004-D004.

C. Paperwork Reduction Act

The Paperwork Reduction Act does not apply because the rule does not impose any information collection requirements that require the approval of the Office of Management and Budget under 44 U.S.C. 3501, et seq.

List of Subjects in 48 CFR Part 207

Government procurement.

Michele P. Peterson,
Executive Editor, Defense Acquisition Regulations Council.

Therefore, 48 CFR part 207 is amended as follows:

1. The authority citation for 48 CFR part 207 continues to read as follows:

Authority: 41 U.S.C. 421 and 48 CFR Chapter 1.

PART 207—ACQUISITION PLANNING

2. Section 207.105 is amended in paragraph (b)(13)(ii) by adding a second sentence to read as follows:

207.105 Contents of written acquisition plans.

* * * * *

(b) * * *

(13) * * *

(ii) * * * Also discuss corrosion prevention and mitigation plans.

* * * * *

[FR Doc. 04-21019 Filed 9-16-04; 8:45 am]

BILLING CODE 5001-08-P